NATIONAL SCIENCE FOUNDATION

Notice of Permit Modification Received Under the Antarctic Conservation Act of 1978

AGENCY: National Science Foundation.

ACTION: Notice of Permit Modification Request Received and Permit Issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

1. NSF issued a permit (ACA 2018-013) to Linnea Pearson on October 16, 2017. The issued permit allows the permit holder to handle Weddell seal pups per year for the purposes of studying the thermoregulatory strategies by which the pups maintain euthermia in air and in water and examine the development of diving capability as the animals prepare for independent foraging. On October 18, 2019, NSF approved a modification to the permit to allow changes to the sedation procedures, take numbers, tag attachment, sample collection, and antibiotic treatment.

Now the permit holder has requested the following modification to allow for full antibiotic treatment of pups in the study, should the need arise. The Environmental Officer has reviewed the modification request and has determined that the amendment is not a material change to the permit, and it will have a less than a minor or transitory impact.

Dates of Permitted Activities: November 8, 2019-October 1, 2020.

The permit modification was issued on November 8, 2019.

2. NSF issued a permit (ACA 2017-012) to George Watters. The issued permit allows the permit holder and agents to engage in take, harmful interference, ASPA entry, and import in support of the marine mammal and avian research activities conducted by National Oceanic and Atmospheric Administration's (NOAA) Antarctic Marine Living Resources (AMLR) Program.

Now the permit holder proposes a permit modification to collect fresh penguin fecal material (feces, scat, guano) samples to aid in a study of microplastics levels in the diets of seabirds. The samples would be collected during the course of research activities that are already permitted and would not cause any additional disturbance to the penguins. Therefore, there is no request for additional take or harmful interference. The samples would be preserved in ethanol and transported to a laboratory in the U.S. for microscopic analysis. The sample collection would begin in the 2019/2020 season and continue for the duration of the permit. The Environmental Officer has reviewed the modification request and has determined that the amendment is not a material change to the permit, and it will have a less than a minor or transitory impact.

Dates of Permitted Activities: November 21, 2019-July 30, 2021.

The permit modification was issued on November 21, 2019.

3. NSF issued a permit (ACA 2017-029) to John Durban. The issued permit allows the permit holder and agents to engage in take and import into the USA. Manner of taking includes using a remotely piloted aircraft system (RPAS) for photogrammetry and blow sample collection from whales; boat-based photography for individual recognition and species identification; and projectile biopsy sampling for collection of skin and blubber samples. Whole or parts of dead animals may be salvaged for chemical analysis or genetic determination of species for unidentified prey parts. Samples are imported into the USA and archived at the NOAA Southwest Fisheries Science Center.

Now the permit holder proposes a permit modification to collect floating fecal samples from killer whales to fill key data gaps on their dietary composition using genetic techniques. The samples would be collected during the course of research activities that are already permitted and would not cause any additional disturbance to whales. Therefore, there is no request for additional takes. The samples would be transported to a laboratory in the U.S. for analysis. The sample collection would begin in the 2019/2020 season and continue for the duration of the permit. The Environmental Officer has reviewed the modification request and has determined that the amendment is not a material change to the permit, and it will have a less than a minor or transitory impact.

Dates of Permitted Activities: November 21, 2019-May 31, 2021.

The permit modification was issued on November 21, 2019.

4. NSF issued a permit (ACA 2017-019) to Jerry McDonald, Principal in Charge, Leidos Innovations Group, Antarctic Support Contract, to allow entry into five Antarctic Specially Protected Areas (ASPAs) in the Antarctic Peninsula region. The Antarctic Support Contractor's staff provides routine logistics support in the transport of science teams and supporting personnel, and in field camp put-in and take-out. Entry into an ASPA would occur only to support a science project for which a permit has been issued. Entry needs and requirements will be reviewed by ASC Environmental Health and Safety Department prior to entry and reported per standard procedures.

On March 9, 2017, the permit was modified to include entry into one additional ASPA (Byers Peninsula, #126) and on October 6, 2017 the permit was modified to include entry into into two additional ASPAs: ASPA No. 161, Terra Nova Bay, Ross Sea and ASPA No. 173, Cape Washington and Silverfish Bay, Terra Nova bay, Ross Sea.

Now the permit holder is requesting entry into five additional ASPAs in order to support scientific research activities funded and supported by NSF and the US Antarctic Program. The permit holder and agents would enter ASPA 107, Emperor Island; ASPA 108, Green Island; ASPA 115, Lagotellerie Island; ASPA 134, Cierva Point and offshore islands; and ASPA 170, Marion Nunatuks, Charcot Island. The Environmental Officer has reviewed the modification request and has determined that the amendment is not a material change to the permit, and it will have a less than a minor or transitory impact.

Dates of Permitted Activities: January 8, 2020-September 1, 2021.

The permit modification was issued on January 8, 2020.

5. NSF issued a permit (ACA 2020-013) to Nicholas Teets on January 2, 2020. The issued permit allows the permit holder and agents to access sites along the Antarctic Peninsula, including ASPAs 108, 126, and 134, to collect midges (Belgica antarctica) for physiology and genetic studies as described in the attached permit application.

Now the applicant proposes a permit modification to enter APSA 149, Cape Shirreff and San Telmo Island, Livingston Island, South Shetland Islands, to survey the area for the presence midges and to make collections of the insects in accordance with the conditions and details of their original permit. The Environmental Officer has reviewed the modification request and has determined that the amendment is not a material change to the permit, and it will have a less than a minor or transitory impact.

Dates of Permitted Activities: January 17, 2020-July 1, 2022.

The permit modification was issued on January 17, 2020.

6. NSF issued a permit (ACA 2017-012) to George Watters. The issued permit allows the permit holder and agents to engage in take, harmful interference, ASPA entry, and import in support of the marine mammal and avian research activities conducted by National Oceanic and Atmospheric Administration's (NOAA) Antarctic Marine Living Resources (AMLR) Program.

A recent modification to this permit, dated November 21, 2019, permitted the applicant to collect fresh penguin fecal material samples to study the presence of microplastics in seabird diets.

Now the applicant proposes a permit modification to add the take and harmful interference of king penguins, Aptenodytes patagonicus, to the permit. The permit holder identified a king penguin in the study area and would approach for photographs and to confirm the presence of an egg. The Environmental Officer has reviewed the modification request and has determined that the amendment is not a material change to the permit, and it will have a less than a minor or transitory impact.

Dates of Permitted Activities: January 17, 2020-July 30, 2021.

The permit modification was issued on January 17, 2020.

Erika N. Davis,
Program Specialist, Office of Polar Programs.

[FR Doc. 2020-16783 Filed 7-31-20; 8:45 am]

BILLING CODE 7555-01-P